DEPARTMENT OF LABOR

Employment and Training Administration

Advancing Registered Apprenticeship into the 21st Century: Collaborating For Success; Solicitation for Grant Applications

Announcement Type: New Notice of solicitation for grant applications.

Funding Opportunity Number: SGA/DFA PY 08-11.

Catalog of Federal Domestic Assistance CFDA Number: 17.201.

Key Dates: The closing date for receipt of application under this announcement is 60 days from the date of publication in the Federal Register.

SUMMARY: The U.S. Department of Labor, Employment and Training Administration (ETA), announces the availability of approximately $6.5 million for 10-20 grants to promote the adoption of the 21st century Registered Apprenticeship framework established by the Final Rule published on October 29, 2008 (73 FR 64402), promulgating revised 20 CFR Part 29, Labor Standards for the Registration of Apprenticeship Programs. The grants will fund the development and/or adaptation of national guideline standards that incorporate competency-based progression; hybrid-style progression; and/or interim credentials. Funds are also available to train staff, apprenticeship instructors and members on the 21st century Registered Apprenticeship framework and on the development of standards that utilize the elements of the 21st century Registered Apprenticeship framework as established by the Final Rule. National industry and employer associations, labor-management organizations and other organizations that demonstrate the capacity to advance registered apprenticeship through the development of new or modified apprenticeship standards using the elements of the 21st century Registered Apprenticeship framework are eligible to apply for grant funds.

To be considered for an award, grant applications must incorporate at least four of the following seven components:

1. Continued expansion into fast growing and/or new and emerging industries (including construction).

2. Development of new or modified programs or guideline standards that utilize competency-based (see Part VIII—Section 2—Key Definitions) or hybrid training models (see Part VIII—Section 2—Key Definitions).

3. Use of interim credentialing to acknowledge the skills an apprentice attains during training.

4. Adoption of Technology-Based Learning strategies for related instruction.

5. Strategic partnerships with the Office of Apprenticeship (OA), State Apprenticeship Agencies (SAA), and the public workforce investment system.

6. Innovative strategies to serve under-represented populations, particularly youth and women, to meet the talent development needs of regional economies through Registered Apprenticeship.

7. Innovative Partnerships with Education (Secondary and Post-Secondary) and other key stakeholders.

Allowable activities may include developing new or modifying existing standards for apprenticeship programs (including national guideline standards), developing curricula to support these standards; using technology-based learning strategies; developing skill assessment tools for competency-based models; training and education to take advantage of the opportunities outlined in the new regulatory requirements; and conducting outreach and training efforts to educate members, affiliates, staff and partners on the new model.

All applicants must develop or modify at least one national guideline standard with at least four programs and train a minimum of 100 apprentices in the new model. Additionally, all applicants must demonstrate that they have the ability and expertise to develop the new framework and the capacity to provide training to their membership. This expertise and capacity can be demonstrated by the individual applicant or through partnership with other organizations.

ETA recognizes that the use of these approaches will offer apprentices greater opportunities to increase their knowledge and attain the skills that emerging and high growth industries demand. Additionally, the use of interim credentialing and competency-based models will ensure that apprentices receive recognition for the skills and competencies they have attained during and prior to completion of a traditional time-based program. ETA believes that expanding the use of these Apprenticeship models will increase the ability of apprenticeship programs to meet the needs of industries that require more flexibility in training a worker for the required level of proficiency and expertise.

ADDRESSES: To apply by mail, please submit one (1) blue-ink signed, typewritten original of the application and two (2) signed photocopies in one package to the U.S. Department of Labor, Employment and Training Administration, Division of Federal Assistance, Attention: Mamie Williams, Reference SGA/DFA PY 08-11, 200 Constitution Avenue, NW., Room N-4716, Washington, DC 20210. Information about applying online through http://www.grants.gov can be found in Section IV.B(3) of this document. Applicants are advised that mail delivery in the Washington area may be delayed due to mail decontamination procedures. Hand delivered proposals will be received at the above address.

SUPPLEMENTARY INFORMATION: The Registered Apprenticeship system is administered by the Employment and Training Administration's (ETA) Office of Apprenticeship (OA) in partnership with State Apprenticeship Agencies (SAA), and is an important strategy to prepare workers for successful careers. It is a significant postsecondary education, training and employment option available nationwide, driven by the needs of businesses and industries. Registered Apprenticeship trains workers for high-skilled, high-wage careers, with an employer satisfaction rate of 85 percent. Registered Apprenticeship has more than 29,000 programs, 250,000 employers and 468,000 apprentices—predominantly in high-growth industries. Industries, employer associations, and labor-management organizations, which sponsor most of the Registered Apprenticeship programs, are particularly well situated to help OA implement the Final Rule and advance Registered Apprenticeship into the 21st century.

The intent of this solicitation is to promote the 21st century Registered Apprenticeship framework as outlined in the new regulations within existing national organizations, their affiliates and members which have Registered Apprenticeship programs. The primary focus is making funds available to develop new or adapt existing national guideline standards to include competency-based models, hybrid models (combination of time and competency-based models) and/or interim credentials. Funds are also available to train staff, apprenticeship instructors and members on this new framework and on the new standards that will be developed.

This solicitation provides background information on the Advancing Apprenticeship Initiative and critical elements required of projects funded under the solicitation. It also describes the application submission requirements, the process that eligible applicants must use to apply for funds covered by this solicitation, and how grantees will be selected. This announcement consists of seven parts:

• Part I provides background information on Registered Apprenticeship.

• Part II describes the size and nature of the anticipated awards.

• Part III describes the qualifications of an eligible applicant.

• Part IV provides information on the application and submission process.

• Part V explains the review process and rating criteria that will be used to evaluate applications.

• Part VI provides award administration information.

• Part VII contains ETA contact information.

• Part VIII contains ‘Veterans Priority’ information and key definitions that may be referenced within this notice.

Part I. Funding Opportunity Description

Background

Registered Apprenticeship programs offer employment and a combination of on-the-job learning and related technical and theoretical instruction. Apprentices are employed at the start of their apprenticeship and work through a series of defined curricula until the completion of their apprenticeship programs. The duration of training, and the skills and competencies required for mastery, are driven by the needs of businesses and industries. Traditional apprenticeship programs require a specific number of hours of on-the-job learning. While this model is successful and preferred in certain industries, increasingly, new and high-growth industries are establishing competency-based and hybrid (competency and time-based) apprenticeship strategies that focus on the mastery of key skills and allow motivated workers to progress at their own pace. Currently, the Registered Apprenticeship system approves time-based, competency-based, and a hybrid of time- and competency-based programs, and provides technical assistance to help industries develop interim credentials.

Interim credentials earned through Registered Apprenticeship programs, and issued by the Department's Office of Apprenticeship as certificates of training, are increasingly recognized nationwide as portable industry credentials. The primary and ultimate apprentice certification is a Certificate of Completion of Apprenticeship, which is awarded at the end of the apprenticeship. Many apprenticeship programs—particularly in high-growth industries such as health care, advanced manufacturing and transportation—now also offer interim credentials and training certificates based on a competency model that leads to a Certificate of Completion. There may be beginning, intermediate, advanced, and specialty certification levels. Registered Apprenticeship programs are flexible to also allow credit for previous apprenticeship-related experience. In addition, interim credentials are recognized by the publicly-funded workforce investment system.

Increased flexibility and additional options will help advance Registered Apprenticeship in all industries that require employees to adapt quickly to changing skill needs and technology advances driven by demand and competition in a 21st century global economy. These additional options will further enable Registered Apprenticeship to meet the needs of sponsors and apprentices and facilitate partnerships with and the leveraging of workforce and education system resources.

In order to ensure that Registered Apprenticeship is integrated into service delivery strategies for businesses and the workforce, it is critical to support collaboration between the Registered Apprenticeship infrastructure, national industry and/or employer associations, labor management organizations, and other organizations that demonstrate the capacity to advance registered apprenticeship through the development of new or modified apprenticeship standards using the elements of the 21st century Registered Apprenticeship framework. These stakeholders are uniquely positioned to integrate Registered Apprenticeship into business engagement strategies by encouraging the development of new apprenticeship programs. National industry and/or employer associations, national labor-management and/or other national organizations can leverage the unique capacity of OA and SAA apprenticeship staff to provide technical assistance for prospective or existing programs. These national groups can also enhance strategic regional development by integrating innovative approaches to registered apprenticeship into their talent development with their local affiliates.

Part II. Award Information

1. Award Amount

ETA anticipates awarding between 10 to 20 grants with funding identified for each of three major ETA activities outlined below. Funding will be awarded to help National industry and employer associations, labor-management organizations and other apprenticeship partners and stakeholders carry out one or more of the following project activities/components:

A. Implementation:

To develop and/or modify new or existing Registered Apprenticeship standards that utilize the elements of the proposed new Registered Apprenticeship framework and implement the new model in at least four sites with a minimum total of 100 apprentices. Up to $500,000 in funding will be awarded to each grantee under this component. The amount of funding requested should be appropriate to conduct the activities needed to reach the project goals under this component.

B. Training & Outreach:

Train members and staff on the elements of the proposed new Registered Apprenticeship framework. Training should be focused on preparing members and staff to implement apprenticeship models that utilize a minimum of four of the seven components described in the introductory summary of this grant solicitation. Up to $150,000 in funding will be awarded to each grantee under this component. The amount of funding requested should be appropriate to conduct the activities needed to reach the project goals under this component.

C. Training, Outreach, and Implementation:

This option is a combination of A and B. Up to $650,000 in funding will be awarded to each grantee (up to $500,000 for implementation and up to $150,000 for training and outreach). The amount of funding requested should be appropriate to conduct the activities needed to reach the project goals under this component.

Applicants must provide a detailed explanation of the activities they propose to conduct under each funding component for which they apply, and detail the funding amount requested for each component. Applications will be scored solely on the criteria for the category (A, B, or C) chosen. For example; an application that seeks funding to accomplish the goals identified under the Implementation component will be evaluated based on the Implementation criteria only, while an application submitted under Option C will be evaluated under a set of combined criteria (see Part V of this notice for more details). Proposals will be grouped by the category for which they apply, and the proposals within each category will be rated separately. Applying for only one component of funding will not affect scoring of applications and will not reduce an applicant's ability to be funded. No category has preference over one of the others.

ETA reserves the right to fund grants at either a lower or higher amount, or fund a smaller or larger number of projects based on the type and the number of quality submissions.

2. Use of Funds

Grants awarded under this solicitation are to be used to develop partnerships of public and private entities to promote the 21st Century Registered Apprenticeship framework. Partnerships should include representatives of business or business-related non-profit organizations, education and training providers, which may include community colleges or other community-based organizations, and the public workforce system. Eligible entities have the opportunity to collaborate with OA and SAA staff to advance their Registered Apprenticeship standards and programs. In addition, eligible entities can collaborate with other partners to:

(1) Write new or modify existing standards that utilize competency-based and/or hybrid (competency/time-based) models, and/or interim credentials, technology-based learning, or other elements of a 21st century Registered Apprenticeship framework; and

(2) Conduct outreach activities to train and prepare members and/or staff on the implementation of such models. Optional partners may include educational institutions, or other community and/or workforce organizations as appropriate.

Pursuant to Section V, applications will be scored on the extent to which applicants describe strategies for working in partnerships as described above.

As provided below, these funds will be awarded to develop programs that provide job training and related assistance designed to assist employed and unemployed workers in gaining the skills and competencies needed to obtain or upgrade career ladder employment positions in the occupations and industries for which employers are using H-1B visas to hire foreign workers. Funds may also be used to enhance the provision of job training services and information, such as the development of curricula and program models, to build core competencies and train workers. Note: See Attachment 1 to this notice for a list of the “H-1B Industry Sectors and Occupations”.

Activities funded under this solicitation must support the advancement of Registered Apprenticeship by national industry and/or employer associations, national labor-management organizations, and other national organizations that demonstrate the capacity to advance registered apprenticeship through the development of new or modified apprenticeship standards using the elements of the 21st century Registered Apprenticeship framework.

Activities to be conducted under these options may include:

Implementation

A. Developing new or modified standards that utilize a minimum of four elements of the 21st century approach to preparing workers. (The seven elements of this approach are outlined in the introductory summary of this document.) Note: Applicants must pilot the new model in at least four programs and train a minimum of 100 apprentices total or 25 apprentices in the new model at each site.

B. Developing new or modified curriculum;

C. Provide on-the-job training geared towards skills assessment;

D. Developing a skills assessment tool for competency-based models (if applicable);

E. Partnering with the Registration Agency, and/or the public workforce system, and/or secondary and post-secondary educational entities;

F. Use of technology-based learning such as on-line discussions or simulations;

G. Develop programs and training utilizing competency-based, and/or hybrid (competency/time-based) models, and/or interim credentials.

Training and Outreach

A. Training approximately 10 affiliates and/or 100-150 members and staff on the implementation of apprenticeship standards that utilize the new regulatory framework governing the National Apprenticeship system;

B. Training apprenticeship instructors on new requirements;

C. Conducting outreach to members, staff, partners, and affiliated sites on apprenticeship standards that utilize elements of this framework.

Implementation, Training & Outreach

A. Train approximately 10 affiliates and/or 100-150 members and staff on the implementation of apprenticeship standards that utilize the new regulatory framework governing the National Apprenticeship system;

B. Train apprenticeship instructors on new requirements;

C. Conduct outreach to members, staff, partners, and affiliated sites on apprenticeship standards that utilize elements of this framework.

D. Develop new or modify existing standards that utilize a minimum of four elements of the 21st century approach to preparing workers. (The seven elements of this approach are outlined in the introductory summary of this document.) Note: Applicants must pilot the new model for one national guideline standard or in at least four programs and train a minimum of 100 apprentices total or 25 apprentices in the new model at each site.

E. Develop new or modify existing curriculum;

F. Provide on-the-job training geared towards skills assessment;

G. Develop a skills assessment tool for competency-based models (if applicable);

H. Partner with OA, SAA, and/or the public workforce system, and/or secondary and post-secondary educational entities;

I. Use of technology-based learning such as on-line learning, simulations, etc.;

J. Develop programs and training utilizing competency-based, and/or hybrid (competency/time-based) models, and/or interim credentials.

3. Cost Sharing

Cost sharing or matching funds are not required as a condition for application, but leveraged resources are strongly encouraged and failure to commit and integrate leveraged resources into the project may have a significant impact on an applicant's ability to successfully compete for grant funds. As described in Part V, applications will be scored based on the quality and the degree to which the source and use of leveraged funds are clearly explained, and the extent to which they are integrated into the project in support of grant outcomes.

4. Period of Performance

The period of performance will be 24 months from the date of execution of the grant documents.

ETA may approve a request for a no-cost extension to grantees for an additional period of time based on the success of the project and other relevant factors.

5. Funding Restrictions

Determinations of allowable costs will be made in accordance with the applicable federal cost principles. Disallowed costs are those charges to a grant that the grantor agency or its representative determines not to be allowed in accordance with the applicable federal cost principles or other conditions contained in the grant. Applicants will not be entitled to reimbursement of pre-award costs.

Indirect Costs. As specified in the Office of Management and Budget (OMB) Circular Cost Principles, indirect costs are those that have been incurred for common or joint objectives and cannot be readily identified with a particular cost objective. An indirect cost rate (ICR) is required when an organization operates under more than one grant or other activity whether federally-assisted or not. Organizations must use the ICR supplied by the relevant federal agency, in this case, ETA. If an organization requires a new ICR or has a pending ICR, the Grant Officer will award a temporary billing rate for 90 days until a provisional rate can be issued. This rate is based on the fact that an organization has not established an ICR agreement. Within this 90-day period, the organization must submit an acceptable indirect cost proposal to their Federal cognizant agency to obtain a provisional ICR.

Administrative Costs. An entity that receives a grant under this solicitation may not use more than 10 percent of the amount of the grant to pay administrative costs associated with the program or project. Administrative costs, which could be both direct and indirect costs, are specified at 20 CFR 667.220. Administrative costs do not need to be identified separately from program costs on the Standard Form 424A Budget Information Form. Administrative costs should be discussed in the budget narrative and tracked through the grantee's accounting system. To claim any administrative costs that are also indirect costs, the applicant must obtain an indirect cost rate agreement from its Federal cognizant agency as specified above.

Salary and Bonus Limitations. None of the funds appropriated in Public Law 109-149, Public Law 110-5, or prior Acts under the heading “Employment and Training” that are available for expenditure on or after June 15, 2006, shall be used by a recipient or sub-recipient of such funds to pay the salary and bonuses of an individual, either as direct costs or indirect costs, at a rate in excess of Executive Level II, except as provided for under section 101 of Public Law 109-149. This limitation shall not apply to vendors providing goods and services as defined in OMB Circular A-133. See Training and Employment Guidance Letter number 5-06 for further clarification: http://wdr.doleta.gov/directives/corr_doc.cfm?DOCN=2262

Legal Rules Pertaining to Inherently Religious Activities by Organizations that Receive Federal Financial Assistance. Direct Federal grants, sub-awards, or contracts under this program must not be used to support inherently religious activities such as religious instruction, worship, or proselytizing. Therefore, organizations must take steps to separate, in time or location, their inherently religious activities from the services supported with DOL financial assistance under this program. Neutral, secular criteria that neither favor nor disfavor religion must be employed in the selection of grant and sub-grant recipients. In addition, under the Workforce Investment Act of 1998 and DOL regulations implementing the Workforce Investment Act, a recipient may not use direct Federal assistance to train a participant in religious activities, or employ participants to construct, operate, or maintain any part of a facility that is used or to be used for religious instruction or worship. See 29 CFR 37.6(f). Under WIA, “no individual shall be excluded from participation in, denied the benefits of, subjected to discrimination under, or denied employment in the administration of or in connection with, any such program or activity because of race, color, religion, sex (except as otherwise permitted under Title IX of the Education Amendments of 1972 and the Religious Freedom Restoration Act of 1993), national origin, age, disability, or political affiliation or belief.” Regulations pertaining to the Equal Treatment for Faith-Based Organizations, which includes the prohibition against supporting inherently religious activities with direct DOL financial assistance, can be found at 29 CFR Part 2, Subpart D. Provisions relating to the use of indirect support (such as vouchers) are at 29 CFR 2.33(c) and 20 CFR 667.266.

A faith-based organization receiving federal financial assistance retains its independence from Federal, State, and local governments, and may continue to carry out its mission, including the definition, practice, and expression of its religious beliefs. For example, a faith-based organization may use space in its facilities to provide secular programs or services supported with Federal financial assistance without removing religious art, icons, scriptures, or other religious symbols. In addition, a faith-based organization that receives Federal financial assistance retains its authority over its internal governance, and it may retain religious terms in its organization's name, select its board members on a religious basis, and include religious references in its organization's mission statements and other governing documents in accordance with all program requirements, statutes, and other applicable requirements governing the conduct of DOL funded activities.

The Department notes that the Religious Freedom Restoration Act (RFRA), 42 U.S.C. 2000bb, applies to all Federal law and its implementation. If your organization is a faith-based organization that makes hiring decisions on the basis of religious belief, it may be entitled to receive Federal financial assistance under Title I of the Workforce Investment Act and maintain that hiring practice even though Section 188 of the Workforce Investment Act contains a general ban on religious discrimination in employment. If you are awarded a grant, you will be provided with information on how to request such an exemption.

Faith-based and community organizations may reference “Transforming Partnerships: How to Apply the U.S. Department of Labor's Equal Treatment and Religion-Related Regulations to Public-Private Partnerships” at: http://www.workforce3one.org/public/_shared/detail.cfm?id=5566&simple=false.

Intellectual Property Rights. The Federal Government reserves a paid-up, nonexclusive and irrevocable license to reproduce, publish or otherwise use, and to authorize others to use for federal purposes: (i) The copyright in all products developed under the grant, including a subgrant or contract under the grant or subgrant; and (ii) any rights to copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which is limited to the developer/seller costs of copying and shipping.

If revenues are generated through selling products developed with grant funds, including intellectual property, these revenues are program income. Program income is added to the grant and must be expended for allowable grant activities.

Part III. Eligibility Information

Under this announcement, eligible applicants include the following entities:

A. National Industry Associations that demonstrate the capacity to advance registered apprenticeship through the development of new or modified apprenticeship standards using the elements of the 21st century Registered Apprenticeship framework;

B. National Employer Associations that demonstrate the capacity to advance registered apprenticeship through the development of new or modified apprenticeship standards using the elements of the 21st century Registered Apprenticeship framework;

C. National Labor-Management Organizations that demonstrate the capacity to advance registered apprenticeship through the development of new or modified apprenticeship standards using the elements of the 21st century Registered Apprenticeship framework; and

D. Other National Organizations that demonstrate the capacity to advance registered apprenticeship through the development of new or modified apprenticeship standards using the elements of the 21st century Registered Apprenticeship framework.

Part IV. Application and Submission Information

1. Address To Request Application Package

This announcement includes all information and forms needed to apply for this funding opportunity.

2. Content and Form of Application Submission

The proposal must consist of two separate and distinct parts, Parts I and II. Applications that fail to adhere to the instructions in this section will be considered non-responsive and may not be given further consideration.

A. Part I is the Cost Proposal and must include the following three items:

• The Standard Form (SF) 424, “Application for Federal Assistance” (available at http://www07.grants.gov/agencies/approved_standard_forms.jsp). The SF-424 must clearly identify the applicant and be signed by an individual with authority to enter into a grant agreement. Upon confirmation of an award, the individual signing the SF 424 on behalf of the applicant shall be considered the representative of the applicant. On line 12 of the SF 424, applicants must also indicate the component (from Part II: Award Information—Section 1—Award Amount: A. Implementation; B. Training & Outreach; C. Training, Outreach & Implementation) for which they are applying for funds under this notice. Applicants that fail to indicate the component for which they are applying for funds under this notice will be deemed non-responsive by DOL and the application will not be accepted for award consideration.

• Dun and Bradstreet (DUNS) number. All applicants for Federal grant and funding opportunities are required to have a DUNS number. See OMB Notice of Final Policy Issuance, 68 FR 38402 (June 27, 2003). Applicants must supply their DUNS number on the SF-424. The DUNS number is a nine-digit identification number that uniquely identifies business entities. Obtaining a DUNS number is easy and there is no charge. To obtain a DUNS number, access this Web site: http://www.dnb.com/us/ or call 1-866-705-5711.

• The SF-424-A Budget Information Form (available at: http://www07.grants.gov/agencies/approved_standard_forms.jsp). In preparing the Budget Information Form, the applicant must provide a concise narrative explanation to support the request. The budget narrative should break down the budget and leveraged resources by the activities specified in the technical proposal. The narrative should also discuss precisely how the administrative costs support the project goals.

Applicants that fail to provide a SF-424, SF-424-A and/or a budget narrative will be removed from consideration prior to the technical review process. Leveraged resources should not be listed on the SF-424 or SF-424-A Budget Information Form, but must be described in the budget narrative and in Part II of the proposal. The amount of Federal funding requested for the entire period of performance must be shown on the SF-424 and SF-424-A Budget Information Form. Applicants are also encouraged, but not required, to submit OMB control number 1890-0014: Survey on Ensuring Equal Opportunity for Applicants, which can be found at: http://www.doleta.gov/grants/find_grants.cfm.

B. Part II is the technical proposal. The following information is required as part of the technical proposal:

• A table of contents listing the application sections.

• A 2-3 page abstract summarizing the proposed project and applicant profile information including: (1) Applicant name; (2) project title; (3) overview of strategies; (4) partnership members; and (5) requested funding level.

• A timeline outlining project activities.

The technical proposal of the application demonstrates the applicant's capabilities to fulfill the intention of the SGA. The Technical Proposal is limited to 10 double-spaced, single-sided, 8.5-inch-by-11-inch pages with 12-point font and 1-inch margins. Please note that the budget, the abstract, and the timeline are not included in the 10-page limit (See Below). In addition to the technical proposal, the applicant may provide resumes, a staffing pattern, statistical information, letters of support, and related materials in attachments. The applicant must reference any participating entities in the text of the Technical Proposal. Applications that do not meet these requirements will not be considered.

Applications may be submitted electronically on www.grants.gov or in hard-copy via U.S. mail, professional delivery service, or hand delivery. These processes are described in further detail in Section IV(3). Applicants submitting proposals in hard-copy must submit an original signed application (including the SF 424) and one (1) “copy-ready” version free of bindings, staples or protruding tabs to ease in the reproduction of the proposal by DOL. Applicants submitting proposals in hard-copy are also requested, though not required, to provide an electronic copy of the proposal on CD-ROM.

3. Submission Dates and Times

The closing date for receipt of applications under this announcement is March 16, 2009. Applications must be received at the address below no later than 5 p.m. (Eastern Time). Applications submitted electronically through Grants.gov, must be successfully submitted at http://www.grants.gov no later than 5:00:00 p.m. (Eastern Time) March 16, 2009, and then subsequently validated by Grants.gov. The submission and validation process is described in more detail below. The process can be complicated and time-consuming. Applicants are strongly advised to initiate the process as soon as possible and to plan for time to resolve technical problems if necessary.

Applications sent by e-mail, telegram, or facsimile (fax) will not be accepted.

If an application is submitted by both hard-copy and through www.grants.gov a letter must accompany the hard-copy application stating why two applications were submitted and the differences between the two submissions. If no letter accompanies the hard-copy we will review the copy submitted through www.grants.gov. For multiple applications submitted through www.grants.gov we will review the latest submittal.

Applications that do not meet the conditions set forth in this notice will not be honored. No exceptions to the mailing and delivery requirements set forth in this notice will be granted.

Mail/overnight mail/hand delivery—To apply by mail, please submit one (1) blue-ink signed, typewritten original of the application and two (2) signed photocopies in one package to the U.S. Department of Labor, Employment and Training Administration, Division of Federal Assistance, Attention: Mamie Williams, Reference SGA/DFA PY 08-11, 200 Constitution Avenue, NW., Room N-4716, Washington, DC 20210. Information about applying online through www.grants.gov can be found in Section IV.B of this document. Applicants are advised that mail delivery in the Washington area may be delayed due to mail decontamination procedures. Hand delivered proposals will be received at the above address.

Electronic submission—Applicants may apply online through Grants.gov (http://www.grants.gov). It is strongly recommended that before the applicant begins to write the proposal, applicants should immediately initiate and complete the “Get Registered” registration steps at http://www.grants.gov/applicants/get_registered.jsp. These steps may take multiple days or weeks to complete, and this time should be factored into plans for electronic submission in order to avoid unexpected delays that could result in the rejection of an application. It is highly recommended that applicants use the “Organization Registration Checklist” at http://www.grants.gov/assets/Organization_Steps_Complete_Registration.pdf to ensure the registration process is complete.

Within two business days of application submission, Grants.gov will send the applicant two email messages to provide the status of application progress through the system. The first email, almost immediate, will confirm receipt of the application by Grants.gov. The second email will indicate the application has either been successfully validated or has been rejected due to errors. Only applications that have been successfully submitted and successfully validated will be considered. It is the sole responsibility of the applicant to ensure a timely submission, therefore sufficient time should be allotted for submission (two business days), and if applicable, subsequent time to address errors and receive validation upon resubmission (an additional two business days for each ensuing submission). It is important to note that if sufficient time is not allotted and a rejection notice is received after the due date and time, the application will not be considered.

The components of the application must be saved as either .doc, .xls or .pdf files. Documents received in a format other than .doc, .xls or .pdf will not be read.

The Grants.gov helpdesk is available from 7 a.m. (Eastern Time) until 9 p.m. (Eastern Time). Applicants should factor the unavailability of the Grants.gov helpdesk after 9 p.m. (Eastern Time) into plans for submitting an application. Applicants are strongly advised to utilize the plethora of tools and documents, including FAQs, that are available on the “Applicant Resources” page at http://www.grants.gov/applicants/app_help_reso.jsp#faqs. To receive updated information about critical issues, new tips for users and other time sensitive updates as information is available, applicants may subscribe to “Grants.gov Updates” at http://www.grants.gov/applicants/email_subscription_signup.jsp.

If applicants encounter a problem with Grants.gov and do not find an answer in any of the other resources, call 1-800-518-4726 to speak to a Customer Support Representative or email support@grants.gov.

Late Applications: For applications submitted on Grants.gov, only applications that have been successfully submitted no later than 5:00:00 p.m. (Eastern Time) on the closing date and successfully validated will be considered. For applicants not submitting on Grants.gov, any application received after the exact date and time specified for receipt at the office designated in this notice will not be considered, unless it is received before awards are made, was properly addressed, and: (a) Was sent by U.S. Postal Service registered or certified mail not later than the fifth calendar day before the date specified for receipt of applications (e.g., an application required to be received by the 20th of the month must be postmarked by the 15th of that month) or (b) was sent by professional overnight delivery service to the addressee not later than one working day prior to the date specified for receipt of applications. “Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

4. Funding Restrictions

Determinations of allowable costs will be made in accordance with the applicable Federal cost principles as indicated in Part VI(2). Disallowed costs are those charges to a grant that the grantor agency or its representative determines not to be allowed in accordance with the applicable Federal cost principles or other conditions contained in the grant.

5. Withdrawal of Applications

Applications may be withdrawn by written notice or telegram (including Mailgram) received at any time before an award is made. Applications may be withdrawn in person by the applicant or by an authorized representative thereof, if the representative's identity is made known and the representative signs a receipt for the proposal.

6. Intergovernmental Review

This funding opportunity is not subject to Executive Order (EO) 12372, “Intergovernmental Review of Federal Programs.”

Part V. Application Review Information

1. Evaluation Criteria

This section identifies and describes the criteria that will be used to evaluate the proposals for the Advancing Apprenticeship Initiative. The factors on which the proposals will be evaluated are delineated in the same order as the criterion is listed under each component. The factors follow the evaluation criteria for each component.

Implementation

1. How do you plan to develop new program standards or to revise existing standards? Describe the occupation(s) for which you have utilized, or will utilize competency-based and/or hybrid (competency/time-based) models, interim credentials, technology-based learning, or other elements of a 21st century Registered Apprenticeship framework. (15 points)

2. How you plan to work with the Registration Agency (OA or the recognized SAA) to develop new program standards or revise existing standards. What experience have you had working with a Registration Agency to develop, revise or implement program standards? (10 points)

3. How will you develop new or modify training curricula to implement the competency-based and hybrid models for apprenticeship? (10 points)

4. How will you measure the development of On-the-Job-Learning (OJL) skills? How will you determine the amount of OJL time needed for an apprentice to demonstrate competency in particular skills? How will you track apprentices' progression through competency-based or hybrid model apprenticeships? Please describe what tools will be developed and how they will be implemented. (10 points)

5. Describe how you will work with your members and affiliates to establish and operate at least four programs, with enrollment of at least 25 apprentices, that utilize the competency-based or hybrid model and provide for issuance of interim credentials. (10 points)

6. How many new programs (at least four) will you develop? How will you determine the occupations for which you are developing and implementing new programs? (10 points)

7. How will you recruit and train the new apprentices in competency-based and hybrid programs (minimum of 25 at each location or a total of 100 apprentices)? (10 points)

8. To what extent will other resources be available to carry out activities; and how will these new programs be sustained during and beyond the period of performance under the grant? (15 points)

9. Describe how you will work in partnership with any other industry, employer or labor-management organization, the public workforce system, or educational institutions. Please describe each group's role. (5 points)

10. Describe how you will use technology-based learning to help apprentices learn. (5 points)

The score for each of the factors delineated under this component will be evaluated on:

• The extent to which the applicant describes plans to develop training programs that will be targeted for development of standards that utilize the 21st century Registered Apprenticeship framework. Responses should include information on the studies and research used to identify to identify the programs to be developed for standard development.

• The extent to which the applicant describes plans to work with the registration agency and describes the level of experience the applicant has in working with the registration agency to develop, revise or implement apprenticeship program standards.

• The extent to which the applicant describes plans to develop new, or modify existing, training curricula to establish and implement competency-based and hybrid models for apprenticeship. Responses should include a detailed explanation of how the curricula to be developed will assist users in advancing through apprenticeships that utilize competency-based and hybrid models which result in the issuance of interim credentials.

• The ability of the applicant to identify what evaluation measures and/or tools will be used to determine the amount of On-the-Job-Learning time needed to demonstrate competency in particular skills to track progression of Apprentices through competency-based or hybrid model apprenticeships.

• The extent to which the applicant describes plans to collaborate with its members and affiliates to establish and operate programs that utilize competency-based or hybrid model apprenticeship programs. Responses should describe how strategies will be shared with members and affiliates and how the strategies support collaborations that result in successful development of programs that utilize the 21st century Registered Apprenticeship framework.

• The extent to which the applicant can identify and describe the new programs (minimum of four) to be developed and describe the research and/or studies used or developed to determine the occupations it will identify for development and implementation of new training programs for apprentices (industry growth statistics, regional or local employment growth statistics, applicant experience in a specific occupational training, etc).

• How thoroughly the applicant describes the strategies to be used to recruit and train new apprentices in competency-based and hybrid programs. Responses should include identification and explanation of the strategies and how they will lead to the successful recruitment and training of apprentices.

• The nature and quality of leveraged resources and the extent to which the resources will support grant activities; and the extent to which the applicant can identify and describe the strategies to be used for sustainment of new programs beyond the period of performance of the grant. Responses should provide evidence that key partners have expressed a clear commitment to providing resources to the project, and an explanation of how the strategies will increase the ability of the applicant to continue to successfully sustain the program without additional grant funds.

• The extent to which the applicant identifies and describes strategies for working with other industry, employer, or labor-management organizations, the public workforce system, and educational institutions to develop, or modify existing programs to develop, revise or implement apprenticeship program standards. Responses should identify who the applicant plans to partner with, the applicant and partner's roles and responsibilities, and how the partnerships will lead to the successful development or modification of programs.

• The extent to which the applicant identifies and describes what technology-based learning tools will be used to help apprentices learn. Responses should describe how the technology-based learning will be used to help apprentices learn through the use of competency-based and hybrid models that lead to the issuance of interim credentials.

Training and Outreach

1. Please describe who will you train and/or who will be the focus of your outreach. (15 points)

2. What curriculum and/or tools will be developed and how will they be incorporated into your training and/or outreach? (20 points)

3. Describe strategies for conducting outreach to expand and promote implementation of competency-based and hybrid model apprenticeship programs, as well as interim credentials by your membership and industry. (15 points)

4. Describe strategies for training your membership and staff on the new model. (15 points)

5. How will this new training framework be sustained? (15 points)

6. How will you work in partnership with any other industry, employer or labor-management organization, the public workforce system, or educational institutions and if so, who and how. Please describe each group's role. (5 points)

7. Describe how you will use technology-based learning to prepare staff and/or members to develop and implement training programs that utilize competency-based and/or hybrid models. (5 points)

8. How do you plan to evaluate the effectiveness of training and outreach efforts to identify whether the activities are successful in expanding the use of the 21st century Registered Apprenticeship framework (e.g. surveys, member questionnaires, other identifiable evaluation factors)? (10 points)

The score for each of the factors delineated under this component will be evaluated on:

• The ability of the applicant to identify who will be targeted for training on the 21st Registered Apprenticeship framework and/or targeted for outreach to promote the use of the 21st century Registered Apprenticeship framework. Responses should describe how those targeted for training and outreach will assist in the development of programs that utilize the 21st century Registered Apprenticeship framework.

• The extent to which the applicant can describe the course materials and or learning tools that will be developed and how they will be used for training and outreach on the 21st century Registered Apprenticeship framework.

• The extent to which the applicant can identify and describe the strategies to be used to promote the use of elements of the 21st century Registered Apprenticeship framework, specifically the use of competency-based models and hybrid models, by applicant members and industry partners and/or affiliates. Responses should include an explanation of why the outreach strategies will lead to increased use of competency-based and hybrid models programs that lead to the issuance of interim credentials.

• The extent to which the applicant can identify and describe the strategies to be used to train its members and/or staff on the elements of the 21st century Registered Apprenticeship model. Responses should include explanation of how the strategies will prepare applicant's members and/or staff to develop and/or modify programs to utilize competency-based and hybrid models that lead to the issuance of interim credentials.

• The nature and quality of leveraged resources and the extent to which the resources will support grant activities; and the extent to which the applicant can identify and describe the strategies to be used for sustainment of new programs beyond the period of performance of the grant. Responses should provide evidence that key partners have expressed a clear commitment to providing resources to the project, and an explanation of how the strategies will increase the ability of the applicant to continue to successfully sustain the program without additional grant funds.

• The extent to which the applicant identifies and describes strategies for working with other industry, employer, or labor-management organizations, the public workforce system, and educational institutions to develop, or modify existing training programs to prepare its staff and/or members to develop, revise or implement apprenticeship program standards that utilize competency-based and hybrid models. Responses should identify who the applicant plans to partner with, the applicant and partner's roles and responsibilities, and how the partnerships will lead to the successful training of staff and/or members on the development or modification of programs that utilize the 21st century Registered Apprenticeship framework.

• The extent to which the applicant identifies and describes what technology-based learning tools will be used to help train its members and/or staff to develop, revise or implement apprenticeship program standards that utilize competency-based and hybrid models.

• The ability of the applicant to identify what evaluation measures and/or tools will be used to determine the effectiveness of training and/or outreach to its staff, members and partners on the development or modification of apprenticeship programs that utilize competency-based or hybrid models.

Implementation, Training and Outreach

1. How do you plan to develop new program standards or to revise existing standards? Describe the occupation(s) for which you have utilized, or will utilize competency-based and/or hybrid (competency/time-based) models, interim credentials, technology-based learning, or other elements of a 21st century Registered Apprenticeship framework. (10 points)

2. How you plan to work with the Registration Agency (OA or the recognized SAA) to develop new program standards or revise existing standards. What experience have you had working with a Registration Agency to develop, revise or implement program standards? (10 points)

3. How will you develop new or modify training curricula to implement the competency-based and hybrid models for apprenticeship? (10 points)

4. How will you develop On-the-Job-Learning (OJL) skills assessments and how will you track apprentices' progression? Please describe what tool/s will be developed and how they will be incorporated into the new learning model. (10 points)

5. How will you recruit and train the new apprentices under the new model (minimum of 25 at each location or a total of 100 apprentices)? Describe how you will work with your members and affiliates to implement the new standards in at least four locations with a minimum of 25 apprentices at each site or a grand total of 100 apprentices. (10 points)

6. Who will you train and/or will be the focus your outreach and or staff training? (5 points)

7. Please describe what curriculum and/or tool/s will be developed and how they will be incorporated into the new learning model. (15 points)

8. Describe strategies for conducting outreach to expand and promote implementation of the new model to your membership and industry. (5 points)

9. How will this new training framework be sustained? (5 points)

10. Will you work in partnership with any other industry, employer or labor-management organization, the public workforce system, or educational institutions and if so, who and how? Please describe each group's role. (5 points)

11. Describe how you will use technology-based learning to help apprentices learn. (5 points)

12. How do you plan to evaluate the effectiveness of training and outreach efforts to identify whether the activities are successful in expanding the use of the 21st century Registered Apprenticeship framework (e.g. surveys, member questionnaire's, other identifiable evaluation factors). (10 points)

The score for each of the factors delineated under this component will be evaluated on:

• The extent to which the applicant describes plans to develop training programs that will be targeted for development of standards that utilize the 21st century Registered Apprenticeship framework. Responses should include information on the studies and research used to identify the programs to be developed for standard development.

• The extent to which the applicant describes plans to work with the registration agency and describes the level of experience the applicant has in working with the registration agency to develop, revise or implement apprenticeship program standards

• The extent to which the applicant describes plans to develop new, or modify existing, training curricula to establish and implement competency-based and hybrid models for apprenticeship. Responses should include a detailed explanation of how the curricula to be developed will assist users in advancing through apprenticeships that utilize competency-based and hybrid models which result in the issuance of interim credentials.

• The ability of the applicant to identify what evaluation measures and/or tools will be used to determine the amount of On-the-Job-Learning time needed to demonstrate competency in particular skills to track progression of Apprentices through competency-based or hybrid model apprenticeships.

• How thoroughly the applicant describes the strategies to be used to work with the applicant's members, affiliates, other industries and/or to recruit and train a minimum of 100 new apprentices in a minimum of four competency-based and hybrid programs. Responses should include identification and explanation of the strategies and how they will lead to the successful recruitment and training of apprentices.

• The ability of the applicant to identify who will be targeted for training on the 21st Registered Apprenticeship framework and/or targeted for outreach to promote the use of the 21st century Registered Apprenticeship framework. Responses should describe how those targeted for training and outreach will assist in the development of programs that utilize the 21st century Registered Apprenticeship framework.

• The extent to which the applicant can describe the course materials and or learning tools that will be developed and how they will be used for training and outreach on the 21st century Registered Apprenticeship framework.

• The extent to which the applicant can identify and describe the strategies to be used to train its members and/or staff on the elements of the 21st century Registered Apprenticeship model. Responses should include explanation of how the strategies will prepare applicant's members and/or staff to develop and/or modify programs to utilize competency-based and hybrid models that lead to the issuance of interim credentials.

• The nature and quality of leveraged resources and the extent to which the resources will support grant activities; and the extent to which the applicant can identify and describe the strategies to be used for sustainment of new programs beyond the period of performance of the grant. Responses should provide evidence that key partners have expressed a clear commitment to providing resources to the project, and an explanation of how the strategies will increase the ability of the applicant to continue to successfully sustain the program without additional grant funds.

• The extent to which the applicant identifies and describes strategies for working with other industry, employer, or labor-management organizations, the public workforce system, and educational institutions to develop, or modify existing training programs to prepare its staff and/or members to develop, revise or implement apprenticeship program standards that utilize competency-based and hybrid models. Responses should identify who the applicant plans to partner with, the applicant and partner's roles and responsibilities, and how the partnerships will lead to the successful training of staff and/or members on the development or modification of programs that utilize the 21st century Registered Apprenticeship framework.

• The extent to which the applicant identifies and describes what technology-based learning tools will be used to help apprentices learn. Responses should describe how the technology-based learning will be used to help apprentices learn through the use of competency-based and hybrid models that lead to the issuance of interim credentials.

• The ability of the applicant to identify what evaluation measures and/or tools will be used to determine the effectiveness of training and/or outreach to its staff, members and partners on the development or modification of apprenticeship programs that utilize competency-based or hybrid models

Review and Selection Process

A review panel will carefully evaluate applications against the rating criteria described in Part V (1), which are based on the policy goals, priorities, and emphases set forth in this SGA. Up to 100 points may be awarded to an application, based on the Rating Criteria described in Part V(1).

Proposals will be grouped by the category for which they apply, and the proposals within each category will be rated separately. The ranked scores will serve as the primary basis for selection of applications for funding, in conjunction with other factors such as the availability of funds; and proposals that are most advantageous to the government. The panel results are advisory in nature and not binding on the grant Officer, who may consider any information that comes to his attention including information provided by OA; the availability of funds; and what is most advantageous to the government, in making award determinations. The Government will consider applications with a score of 80 or above to be eligible for a grant award. Applicants that score less than 80 will not be eligible for a grant award. If no fundable proposals are received for a given category, additional awards may be made in the other categories. The government reserves the right to award grants with or without discussions or negotiations with applicants. Should a grant be awarded without negotiations, the award will be based on the applicant's signature on the SF-424, which constitutes a binding offer.

The government reserves the right to award grants with or without discussions or negotiations with applicants. Should a grant be awarded without negotiations, the award will be based on the applicant's signature on the SF-424, which constitutes a binding offer.

Part VI. Award Administrative Information

1. Award Notices

All award notifications will be posted on the ETA Web site at: http://www.doleta.gov/grants/find_grants.cfm. Applicants selected for award will be contacted directly before the grant's execution. Applicants not selected for award will be notified by mail as soon as possible.

Note: Selection of an organization as a grantee does not constitute approval of the grant application as submitted. Before the actual grant is awarded, ETA may enter into negotiations about such items as program components, staffing, and administrative systems in place to support grant implementation. If negotiations do not result in a mutually acceptable submission, the Grant Officer reserves the right to terminate the negotiation and decline to fund the application.

2. Administrative and National Policy Requirements—Administrative Program Requirements

All grantees will be subject to all applicable Federal laws (including provisions in appropriations law), regulations, and the applicable Office of Management and Budget (OMB) Circulars. The applicants selected under the SGA will be subject to the following administrative standards and provisions, if applicable:

• 29 CFR Part 29—Labor Standards for the Registration of Apprenticeship Programs

• 29 CFR Part 29—Apprenticeship Programs, Labor Standards for Registration, Amendment of Regulations; Final Rule.

• Workforce Investment Act—20 Code of Federal Regulations (CFR) Part 667 Subpart B (Administrative Rules, Costs and Limitations) and Subpart H (Administrative Adjudication and Judicial Review).

• Non-Profit Organizations—2 CFR Part 230 (Cost Principles, formerly Office of Management and Budget (OMB) Circular A-122) and 29 CFR Part 95 (Administrative Requirements).

• Educational Institutions—2 CFR Part 220 (Cost Principles, formerly OMB Circular A-21) and 29 CFR part 95 (Administrative Requirements).

• State and Local Governments—2 CFR Part 225 (Cost Principles, formerly OMB circular A-87) and 29 CFR Part 97 (Administrative Requirements).

• All entities must comply with 29 CFR Parts 93 and 98, and where applicable, 29 CFR Parts 96 and 99.

• In accordance with Section 18 of the Lobbying Disclosure Act of 1995, Public Law 104-65 (2 U.S.C. 1611), non-profit entities incorporated under Internal Revenue Code Section 501(c)(4) that engage in lobbying activities will not be eligible for the receipt of Federal funds and grants.

• 29 CFR Part 2, subpart D—Equal Treatment in Department of Labor Programs for Religious Organizations; Protection of Religious Liberty of Department of Labor Social Service Providers and Beneficiaries.

• 29 CFR Part 30—Equal Employment Opportunity in Apprenticeship and Training.

• 29 CFR Part 31—Nondiscrimination in Federally Assisted Programs of the Department of Labor—Effectuation of Title VI of the Civil Rights Act of 1964.

• 29 CFR Part 32—Nondiscrimination on the Basis of Handicap in Programs and Activities Receiving or Benefiting from Federal Financial Assistance.

• 29 CFR Part 33—Enforcement of Nondiscrimination on the Basis of Handicap in Programs or Activities Conducted by the Department of Labor.

• 29 CFR Part 35—Nondiscrimination on the Basis of Age in Programs or Activities Receiving Federal Financial Assistance from the Department of Labor.

• 29 CFR Part 36—Nondiscrimination on the Basis of Sex in Education Programs or Activities Receiving Federal Financial Assistance.

• 29 CFR Part 37—Implementation of the Nondiscrimination and Equal Opportunity Provisions of the Workforce Investment Act of 1998 (WIA).

(Note: Except as specifically provided in this notice, ETA's acceptance of a proposal and award of Federal funds to sponsor any program(s) does not provide a waiver of any grant requirements and/or procedures. For example, the OMB Circulars require that an entity's procurement procedures must ensure that all procurement transactions are conducted, as practical, to provide full and open competition. If a proposal identifies a specific entity to provide services, the ETA award does not provide the justification or basis to sole-source the procurement, i.e., avoid competition.)

3. Reporting Requirements

As a condition of participation in the grant program, applicants will be required to submit periodic reports such as the Quarterly Financial Reports, Progress Reports and Final Reports as follows:

Quarterly Financial Reports. A Quarterly Financial Status Report (ETA 9130)/OMB Approval No. 1205-0461 is required until such time as all funds have been expended and/or the grant period has expired. Quarterly financial reports are due 45 days after the end of each calendar year quarter. Grantees must use ETA's Online Electronic Reporting System.

Quarterly Progress Reports. The grantee must submit a quarterly Performance Progress Report, SF-PPR/OMB Approval Number: 0970-0443 to the designated Federal Project Officer within 45 days after the end of each calendar year quarter. Two copies are to be submitted providing a detailed account of activities undertaken during that quarter. ETA may require additional data elements to be collected and reported on either a regular basis or special request basis. Please see Part V (1) of this SGA for the types of data elements ETA will require for quarterly submission. Applicants must agree to meet ETA's reporting requirements in order to become a grantee.

The quarterly progress report must be in narrative form and must include:

1. A comparison of actual accomplishments with the goals and objectives established for the period. This must include discussion of placements in apprenticeships, giving the name and address of each workplace and company involved.

2. Reasons why established goals were not met, if appropriate.

3. Any problems that may impede the performance of the grant and corrective action proposed or taken.

4. Any changes in the proposed work to be performed during the next reporting period.

In addition, between scheduled reporting dates, the grantee(s) must immediately inform the Office of Apprenticeship of significant developments affecting the ability to accomplish the goals of the project.

Final Report. A draft final report must be submitted no later than 60 days prior to the expiration date of the grant. This report must summarize activities, employment outcomes, and related results. After responding to ETA's questions and comments on the draft report, three copies of the final report must be submitted no later than the grant expiration date.

Part VII. Agency Contacts

For further information regarding this SGA, please contact Mamie Williams, Grants Management Specialist, (202) 693-3341. Any questions regarding this SGA should be faxed to (202) 693-2879 (not a toll-free number). You must specifically address your fax to the attention of Mamie Williams and should include the following information: SGA/DFA PY 08-11, a contact name, fax, and telephone number.

Part VIII. Other Information

1. Veterans Priority

The Jobs for Veterans Act (Pub. L. 107-288) provides priority of service to veterans and spouses of certain veterans for the receipt of employment, training, and placement services in any job training program directly funded, in whole, or in part, by the U.S. Department of Labor. In circumstances where a ‘Advancing Registered Apprenticeship into the 21st Century' grant recipient must choose between two equally qualified candidates for training, one of whom is a veteran, the Jobs for Veterans Act requires that ‘Advancing Registered Apprenticeship into the 21st Century' grant recipients give the veteran priority of service by admitting him or her into the program. Please note that, to obtain priority of service, a veteran must meet the program's eligibility requirement. ETA Training and Employment guidance Letter (TEGL) No. 5-03 (September 16, 2003) provides guidance on the scope of the Jobs for Veterans Act and its effect on current employment and training programs. TEGL No. 5-03, along with additional guidance, is available at the “Jobs for Veterans Priority of Service” Web site (http;//www.doleta.gov/programs/vets). The Department published a Notice of Proposed Rulemaking to implement Veterans Priority in August 2008 (73 FR 48086 (Aug. 15, 2008)).

2. Key Definitions

Certificate of Completion of Apprenticeship: The Certificate of Completion of Apprenticeship issued by the Registration Agency to those registered apprentices certified and documented as successfully completing the apprentice training requirements outlined in the Standards of Apprenticeship.

Competency-Based Model: Competency/performance-based apprenticeship occupations are premised on attainment of demonstrated, observable and measurable competencies and skills in lieu of meeting time-based work experience. Work processes are designed to include all the skills needed to attain competencies and how the mentor/journey worker will assess the apprentices. Therefore, work process schedules and related instruction outlines must specify approximate time of completion or attainment of each competency, which can be applied toward the 2,000-hour minimum requirement (competencies demonstrated not withstanding and assuming no credit for previous experience). In competency/performance-based occupations, apprentices may accelerate the rate of competency achievement or take additional time beyond the approximate time of completion or attainment due the open entry and exit design.

Hybrid Model: In addition to time-based occupations which have a fixed set time for completion and competency/performance-based occupations, a third alternative has evolved which, in effect, is a “hybrid” of the two types of occupations previously mentioned. This third type of training method is basically a combination of time and performance considerations whereby work processes are developed with a minimum time/hours for each task or job requirement.

Interim Credential: Interim Credential means a credential issued by the Registration Agency, upon request of the appropriate sponsor, as certification of competency attainment by an apprentice. Competency means the attainment of manual or technical skills and knowledge, as specified by an occupational standard. Program sponsors shall identify and define all interim credentials that they choose to utilize. Interim credentials can only be issued for recognized components of an apprenticeable occupation as identified by an appropriate job task analysis.

Technology-Based Learning (TBL): Can be defined as the learning of content via all-electronic technology, including the Internet, intranets, satellite broadcasts, audio and video tape, video and audio conference, Internet conferencing, chat rooms, bulletin boards, Web casts, computer-based instruction, and CD-ROM. It encompasses related terms, such as online learning, Web-based learning, computer-based learning, and e-learning.

Time-Based Model: The traditional Registered Apprenticeship model is time-based with a minimum requirement of 2,000 hours of on-the-job learning and 144 hours of related instruction. The majority of apprenticeship programs use this model.

OMB Information Collection No. 1225-0086.

Expires: September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the OMB Desk Officer for ETA, Office of Management and Budget, Room 10235, Washington DC 20503. Please do not return the completed application to the OMB. Send it to the sponsoring agency as specified in this solicitation. This information is being collected for the purpose of awarding a grant. The information collected through this “Solicitation for Grant Applications” will be used by the Department of Labor to ensure that grants are awarded to the applicants best suited to perform the functions of the grant. Submission of this information is required in order for the applicant to be considered for award of this grant. Unless otherwise specifically noted in this announcement, information submitted in the respondent's application is not considered to be confidential.

Signed at Washington, DC, this 9th day of January 2009.
Chari Magruder,
Grant Officer, Employment and Training Administration.

Attachment 1 to SGA/DFA PY 08-11-Advancing Registered Apprenticeship into the 21st Century: Collaborating for Success

H-1B Industry Sectors and Occupations—Industry Sectors:

Information Technology

Computer Systems Design and Related Services

Software Development/Software Publishers

Data Processing Services

Information Services

Telecommunications

Scientific Research and Development Services (including Biotechnology)

Scientific and Technical Consulting (including Biotechnology)

Architecture, Engineering, Surveying

Specialized Design Services

Construction/Skilled Trades

Finance, Insurance and Real Estate and Administrative Support Services

Accounting, Tax Preparation,

Bookkeeping & Payroll Services

Financial Investment

Securities & Commodity

Brokerage/Contracts

Business Support Services

Insurance Carriers, Agencies,

Brokerages, and Insurance and Employee Benefit Funds

Credit Intermediation

Advanced Manufacturing

Semiconductor and Other Electronic Component Manufacturing

Computer, Electronic Product, and Peripheral Equipment Manufacturing

Pharmaceutical and Medicine Manufacturing

Communications Equipment Manufacturing

Navigational, Measuring, Electromedical, and Control Instruments Manufacturing

Industrial Machinery Manufacturing

Aerospace Manufacturing

Chemical and Petrochemical Manufacturing

Motor Vehicle and Parts Manufacturing

Medical Equipment and Supplies Manufacturing

Metalworking Manufacturing

Food Manufacturing

Other Miscellaneous Manufacturing

Automotive Repair/Maintenance

Health Care

General Medical and Surgical Hospitals and Other Hospitals

Offices of Physicians

Offices of Dentists

Offices of Other Health Practitioners

Medical and Diagnostic Laboratories

Nursing and Residential Care Facilities

Home Health Care Services

Energy

Electric Power Generation, Transmission, and Distribution

Oil & Gas Extraction, Refining, and Production

Mining and Support Activities for Mining

Pipeline Transportation

Transportation

Air Transportation

Freight and Truck Transportation

Water Transportation

Transportation Support

Cross-Cutting Occupations

Computer Related Occupations

Systems Analysis and Programming

Data Communications and Networks

Computer Systems Technical Support

Computer Systems User Support

Engineering and Related Technical Occupations

Aeronautical

Electrical

Civil

Ceramic

Mechanical

Chemical

Mining and Petroleum

Metallurgy and Metallurgical

Industrial

Agricultural

Marine

Nuclear

Drafters

Surveying/Cartographic

Architectural.

Occupations in Mathematics and Physical Sciences

Mathematics

Astronomy

Chemistry

Physics

Geology

Meteorology

Occupations in Life Sciences

Agricultural Sciences

Biological Sciences

Occupations in Medicine and Health

Physicians/Surgeons

Osteopaths

Dentists

Veterinarians

Pharmacists

Registered Nurses

Therapists

Dieticians

Medical and Dental Technology

Other Health Care Practitioners

Occupations in Financial and Administrative Fields

Accountants/Auditors

Bookkeepers/Payroll Services

Budget and Management Systems Analysis

Finance, Insurance, and Real Estate Management

Purchasing Managers

Agents/Appraisers

Technology Related Occupations

Process Technicians.

Mechanics/Mechanical Engineering Technicians 43

[FR Doc. E9-653 Filed 1-14-09; 8:45 am]

BILLING CODE 4510-FT-P